DEPARTMENT OF COMMERCE

International Trade Administration

[A-570-853]

Notice of Final Determination of Sales at Less Than Fair Value: Bulk Aspirin From the People's Republic of China

AGENCY: Import Administration, International Trade Administration, Department of Commerce.

SUMMARY: The Department of Commerce is conducting an antidumping duty investigation of Bulk Aspirin from the People's Republic of China. We determine that sales have been made at less than fair value. The estimated dumping margins are shown in the Continuation of Suspension of Liquidation section of this notice.

EFFECTIVE DATE: May 25, 2000.

FOR FURTHER INFORMATION CONTACT: Rosa Jeong, Ryan Langan or Blanche Ziv, Import Administration, International Trade Administration, U.S. Department of Commerce, 14th Street and Constitution Avenue, NW., Washington, DC 20230; telephone: (202) 482-3853, 482-1279, or 482-4207, respectively.

SUPPLEMENTARY INFORMATION:

The Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department of Commerce's (“the Department's”) regulations refer to the regulations codified at 19 CFR part 351 (1998).

Case History

Since the preliminary determination (see 65 FR 116 (January 3, 2000) (“Preliminary Determination”)), the following events have occurred:

On December 28, 1999, one of the respondents, Shandong Xinhua Pharmaceutical Factory (“Shandong”), requested a postponement of the final determination and, on January 4, 2000, requested an extension of provisional measures. On January 20, 2000, we published in the Federal Register a notice of postponement of the final determination and extension of provisional measures (65 FR 3204).

Supplemental information regarding surrogate values was submitted on February 14, 2000, by the petitioner and respondents.

In February and March 2000, we conducted verification of the questionnaire responses submitted by Shandong and Jilin Pharmaceutical Import and Export Corporation (“Jilin”). We issued reports on our findings of these verifications on April 5, 2000.

The petitioner and respondents filed case briefs and rebuttal briefs on April 12 and April 19, 2000, respectively. At the request of the petitioner and respondents, the Department held a public hearing on April 25, 2000.

We also received a case brief from Dastech International, Inc. (“Dastech”), an interested party in this investigation. After reviewing Dastech's comments, we determined that the information contained in Dastech's brief constituted factual information that was filed on an untimely basis as set forth in section 351.301 of the Department's regulations. Therefore, pursuant to section 351.302(d) of the Department's regulations, we removed Dastech's submission from the record, and did not consider the comments for the final determination. See “Rejection of Interested Party's Brief” Memorandum to Richard W. Moreland, Deputy Assistant Secretary, Import Administration, dated May 17, 2000.

Scope of the Investigation

For purposes of this investigation, the product covered is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia (“USP”) 23. It is classified under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is classified under HTSUS subheading 3003.90.0000. Although the HTSUS subheadings are provided for convenience and customs purposes, the written description of the merchandise under investigation is dispositive.

Period of Investigation

The period of this investigation (“POI”) is October 1, 1998, through March 31, 1999.

Nonmarket Economy Country and Market-Oriented Industry Status

The Department has treated the People's Republic of China (“PRC”) as a nonmarket economy (“NME”) country in all past antidumping investigations. See, e.g., Notice of Final Determination of Sales at Less Than Fair Value: Certain Preserved Mushrooms from the People's Republic of China, 63 FR 72255 (December 31, 1998) (“Mushrooms”). Under section 771(18)(C) of the Act, this NME designation remains in effect until it is revoked by the Department.

The respondents in this investigation have not requested a revocation of the PRC's NME status and no further information has been provided that would lead to such a revocation. Therefore, we have continued to treat the PRC as an NME in this investigation.

Furthermore, no interested party has requested that the bulk aspirin industry in the PRC be treated as a market-oriented industry and no further information has been provided that would lead to such a determination. Therefore, we have not treated the bulk aspirin industry in the PRC as a market-oriented industry in this investigation.

Separate Rates

All responding companies have requested separate, company-specific antidumping duty rates. In our Preliminary Determination, we preliminarily found that all responding companies had met the criteria for the application of separate antidumping duty rates. See 65 FR at 3204. At verification, we found no discrepancies with the information provided in the questionnaire responses of responding companies. We have not received any other information since the Preliminary Determination which would warrant reconsideration of our separate rates determinations with respect to these companies. We, therefore, determine that the responding companies in this investigation should be assigned individual dumping margins.

PRC-Wide Rate

As stated in the preliminary determination, information on the record of this investigation indicates that there are numerous producers/exporters of the subject merchandise in the PRC in addition to the companies participating in this investigation. U.S. import statistics show that the responding companies did not account for all imports of bulk aspirin into the United States from the PRC. Given this discrepancy, it appears that not all PRC exporters of bulk aspirin responded to our questionnaire. Accordingly, we are applying a single antidumping deposit rate (“the PRC-wide rate”) to all bulk aspirin exporters in the PRC except those specifically identified in the “Continuation of Suspension of Liquidation” section of this notice.

Use of Facts Available

As explained in the preliminary determination, the PRC-wide antidumping rate is based on adverse facts available, in accordance with section 776 of the Act. Section 776(a)(2) of the Act provides that “if an interested party or any other person— (A) withholds information that has been requested by the administering authority or the Commission under this title, (B) fails to provide such information by the deadlines for submission of the information or in the form and manner requested, subject to subsections (c)(1) and (e) of section 782, (C) significantly impedes a proceeding under this title, or (D) provides such information but the information cannot be verified as provided in section 782(i), the administering authority and the Commission shall, subject to section 782(d), use the facts otherwise available in reaching the applicable determination under this title.” Use of facts available is warranted in this case because the producers/exporters other than those under investigation have failed to respond to the Department's questionnaire.

Section 776(b) of the Act provides that adverse inferences may be used when a party has failed to cooperate by not acting to the best of its ability to comply with a request for information. The producers/exporters that decided not to respond in any form to the Department's questionnaire, failed to act to the best of their ability in this investigation. Further, absent a verifiable response from these firms, we must presume government control of these PRC companies. Thus, the Department has determined that, in selecting from among the facts otherwise available, an adverse inference is warranted and has assigned them a common, PRC-wide rate based on adverse inferences.

In accordance with our standard practice, as adverse facts available, we are assigning to the PRC-wide entity (i.e., those companies not receiving a separate rate), which did not cooperate in the investigation, the higher of: (1) the highest margin stated in the notice of initiation; or (2) the highest margin calculated for any respondent in this investigation. See, e.g., Notice of Final Determination of Sales at Less Than Fair Value: Stainless Steel Wire Rod From Japan, 63 FR 40434 (July 29, 1998). In this case, the adverse facts available margin is 144.02 percent, the margin from the petition, which is higher than the margin calculated for any respondent in this investigation.

Section 776(c) of the Act provides that where the Department selects from among the facts otherwise available and relies on “secondary information,” such as the petition, the Department shall, to the extent practicable, corroborate that information from independent sources reasonably at the Department's disposal. The Statement of Administrative Action accompanying the URAA, H.R. Doc. No. 103-316 (1994) (“SAA”), states that “corroborate” means to determine that the information used has probative value. See SAA at 870. As discussed in the Preliminary Determination, we determine that the calculations set forth in the petition have probative value.

Analysis of Comments Received

All issues raised in the case and rebuttal briefs by parties to this investigation are addressed in the May 17, 2000, Decision Memorandum which is hereby adopted by this notice. Attached to this notice as an appendix is a list of the issues which parties have raised and to which we have responded in the Decision Memorandum. Parties can find a complete discussion of all issues raised in this investigation and the corresponding recommendations in this public memorandum which is on file in the Central Records Unit, Room B-099 of the Department. In addition, a complete version of the Decision Memorandum can be accessed directly on the internet at www.ita.doc.gov/import_admin/records/frn. The paper copy and electronic version of the Decision Memorandum are identical in content.

Changes Since the Preliminary Determination

Based on our analysis of comments received, we have made certain changes in the margin calculations. We have also corrected certain programming and clerical errors in our Preliminary Determination, where applicable. Any programming or clerical errors are discussed in the relevant sections of the Decision Memorandum or in the company-specific final determination calculation memoranda dated May 17, 2000.

Verification

As provided in section 782(i) of the Act, we verified the information submitted by respondents for use in our final determination. We used standard verification procedures including examination of relevant accounting and production records, and original source documents provided by respondents.

Continuation of Suspension of Liquidation

In accordance with section 735(c) of the Act, we are directing the U.S. Customs Service (“Customs”) to continue to suspend liquidation of all imports of the subject merchandise from the PRC, except for merchandise both produced and exported by Jilin (which had a zero margin at the Preliminary Determination), that are entered, or withdrawn from warehouse, for consumption on or after January 3, 2000, the date of publication of the Preliminary Determination in the Federal Register. With respect to Jilin, Customs shall suspend liquidation of all imports of the subject merchandise from the PRC, produced and exported by Jilin that are entered, or withdrawn from warehouse, for consumption on or after the date of publication of this notice in the Federal Register.

Customs shall continue to require a cash deposit or the posting of a bond equal to the weighted-average amount by which the NV exceeds the EP or CEP, as appropriate, as indicated in the chart below. These suspension of liquidation instructions will remain in effect until further notice.

The weighted-average dumping margins are as follows:

Exporter/manufacturer | Weighted-average margin percentage
Shandong Xinhua Pharmaceutical Factory | 42.77
Jilin Pharmaceutical Co., Ltd./
Jilin Pharmaceutical Import and Export Corporation | 4.72
PRC-wide Rate | 144.02

The PRC-wide rate applies to all entries of the subject merchandise except for entries from exporters that are identified individually above.

ITC Notification

In accordance with section 735(d) of the Act, we have notified the ITC of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered for consumption on or after the effective date of the suspension of liquidation.

This determination is issued and published in accordance with sections 735(d) and 777(i)(1) of the Act.

Dated: May 17, 2000.
Troy H. Cribb,
Acting Assistant Secretary for Import Adminstration.

Appendix

List of Comments in the Issues and Decision Memorandum

Comment 1: Valuation of Phenol

Comment 2: Valuation of Caustic Soda

Comment 3: Valuation of Carbon Dioxide

Comment 4: Valuation of Overhead, Selling, General, Administrative Expenses and Profit

Comment 5: Adjustments to Surrogate Ratios

Comment 6: Valuation of Electricity

Comment 7: Valuation of Water

Comment 8: Valuation of Ocean Freight

Comment 9: Returned Merchandise

Comment 10: Separate Rates

Comment 11: Shandong's Use of Technical-Grade Salicylic Acid

Comment 12: Jilin's Raw Material Consumption

Comment 13: Jilin's By-Product Offset

Comment 14: Jilin's Inland Freight Costs for Materials

Comment 15: Jilin's Multiple Shipments

[FR Doc. 00-13095 Filed 5-24-00; 8:45 am]

BILLING CODE 3510-DS-P